DEPARTMENT OF LABOR

Employment and Training Administration

[TA-W-40,855, TA-W-40,855A]

Quebcor World Kingsport, Inc., Kingsport, Tennessee, Quebcor World Hawkins, Kinsport Press Road, Church Hill, Tennessee; Notice of Negative Determination Regarding Application for Reconsideration

By application of June 5, 2002, the United Steelworkers of America, Local 299 requested administrative reconsideration of the Department's negative determination regarding eligibility for workers and former workers of the subject firm to apply for Trade Adjustment Assistance (TAA). The denial notice applicable to workers of Quebecor World Kingsport, Inc., Kingsport, Tennesse (TA-W-40,855) and Quebcor World Hawkins, Kingsport Press Road, Church Hill, Tennessee (TA-W-40,855A) was issued on May 2, 2002, and was published in the Federal Register on May 17, 2002 (67 FR 35143).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The investigation findings revealed that criterion (3) of the group eligibility requirements of section 222 of the Trade Act of 1974 was not met. Increased imports did not contribute importantly to worker separations at the subject firm. The preponderance in the declines in employment at Quebcor World Hawkins, Kingsport Press Road, Church Hill, Tennessee is the direct result of plant production being shifted to other domestic locations and related bumping into the Quebecor World Kingsport, Incorporated facility. The workers were engaged in activities related to the production of books and also provided warehouse and distribution functions.

The request for reconsideration alleges that the subject plant workers were impacted by company work being exported to foreign countries and then shipped back to the United States. The petitioner attached a copy of work orders in an attempt to depict this.

The Department of Labor requested that the company verify the work orders lost to foreign sources and the amount of business lost to foreign sources. The company summarized the information and indicated that the amount of the work exported and imported back to the United States was negligible.

The petitioner further states that during February 2002, the company shifted binding equipment (Koibus casing-in line and one Horauf casemaker) from Quebecor World Hawkings to Bogata, Columbia.

Based on information supplied by the company, all plant production was shifted to domestic sources. A shift in plant machinery to a foreign source does not meet the eligibility requirements of section 223 of the Trade Act of 1974. As already indicated, company imports of products like or directly competitive with what the subject plant produced were negligible and thus any shifts in plant machinery to a foreign source is irrelevant.

Conclusion

After review of the application and investigative findings, I conclude that there has been no error or misinterpretation of the law or of the facts which would justify reconsideration of the Department of Labor's prior decision. Accordingly, the application is denied.

Signed at Washington, DC this 20th day of December, 2002.
Edward A. Tomchick,
Director, Division of Trade Adjustment Assistance.

[FR Doc. 03-412 Filed 1-8-03; 8:45 am]

BILLING CODE 4510-30-P